DEPARTMENT OF TRANSPORTATION

Federal Aviation Administration

14 CFR Part 39

[Docket No. FAA-2010-0158; Directorate Identifier 2010-CE-006-AD; Amendment 39-16289; AD 2010-10-10]

RIN 2120-AA64

Airworthiness Directives; Hawker Beechcraft Corporation (Type Certificate No. A00010WI Previously Held by Raytheon Aircraft Company) Model 390 Airplanes

AGENCY: Federal Aviation Administration (FAA), Department of Transportation (DOT).

ACTION: Final rule.

SUMMARY: We are adopting a new airworthiness directive (AD) for certain Hawker Beechcraft Corporation Model 390 airplanes. This AD requires you to inspect the essential bus lightning strike protection for proper installation of metal oxide varistor (MOV) and spark gap wiring. This AD also requires you to rework the wiring as necessary to achieve the required lightning strike/surge protection. This AD results from a report that the wires to the MOV and spark gap were swapped. We are issuing this AD to detect and correct improper installation of the MOV and spark gap wiring, which could result in overload of the MOV in a lightning strike and allow electrical energy to continue to the essential bus and disable equipment that receives power from the essential bus. The disabled equipment could include the autopilot, anti-skid system, hydraulic indicator, spoiler system, pilot primary flight display, audio panel, or the #1 air data computer. This failure could lead to a significant increase in pilot workload during adverse operating conditions.

DATES: This AD becomes effective on June 21, 2010.

On June 21, 2010, the Director of the Federal Register approved the incorporation by reference of certain publications listed in this AD.

ADDRESSES: For service information identified in this AD, contact Hawker Beechcraft Corporation, 9709 East Central, Wichita, Kansas 67201; telephone: (316) 676-5034; fax: (316) 676-6614; Internet: https://www.hawkerbeechcraft.com/service_support/pubs/.

To view the AD docket, go to U.S. Department of Transportation, Docket Operations, M-30, West Building Ground Floor, Room W12-140, 1200 New Jersey Avenue, SE., Washington, DC 20590, or on the Internet at http://www.regulations.gov. The docket number is FAA-2010-0158; Directorate Identifier 2010-CE-006-AD.

FOR FURTHER INFORMATION CONTACT: Kevin Schwemmer, Aerospace Engineer, FAA, Wichita Aircraft Certification Office (ACO), 1801 Airport Road, Room 100, Wichita, Kansas 67209; telephone: (316) 946-4174; fax: (316) 946-4107; e-mail: kevin.schwemmer@faa.gov.

SUPPLEMENTARY INFORMATION:

Discussion

On February 16, 2010, we issued a proposal to amend part 39 of the Federal Aviation Regulations (14 CFR part 39) to include an AD that would apply to certain Hawker Beechcraft Corporation Model 390 airplanes. This proposal was published in the Federal Register as a notice of proposed rulemaking (NPRM) on February 23, 2010 (75 FR 8001). The NPRM proposed to require you to inspect the essential bus lightning strike protection for proper installation of metal oxide varistor (MOV) and spark gap wiring. The NPRM also proposed to require you to rework the wiring as necessary to achieve the required lightning strike/surge protection.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 170 airplanes in the U.S. registry.

We estimate the following costs to do the inspection (includes any necessary follow-on action):

Labor cost | Parts cost | Total cost per airplane | Total cost on U.S. operators
3 work-hours × $85 per hour = $255 | Not applicable | $255 | $43,350

Warranty credit may be given to the extent specified in Hawker Beechcraft Mandatory Service Bulletin SB 24-3995, issued September 2009.

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2010-0158; Directorate Identifier 2010-CE-006-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2010-10-10 Hawker Beechcraft Corporation (Type Certificate No. A00010WI Previously Held by Raytheon Aircraft Company): Amendment 39-16289; Docket No. FAA-2010-0158; Directorate Identifier 2010-CE-006-AD.

Effective Date

(a) This AD becomes effective on June 21, 2010.

Affected ADs

(b) None.

Applicability

(c) This AD applies to Model 390 airplanes, serial numbers RB-4 through RB-248, that are certificated in any category.

Subject

(d) Air Transport Association of America (ATA) Code 24: Electric Power.

Unsafe Condition

(e) This AD results from a report that the metal oxide varistor (MOV) and spark gap wiring of the essential bus lightning strike protection were swapped. We are issuing this AD to detect and correct improper installation of the MOV and spark gap wiring, which could result in overload of the MOV in a lightning strike and allow electrical energy to continue to the essential bus and disable equipment that receives power from the essential bus. The disabled equipment could include the autopilot, anti-skid system, hydraulic indicator, spoiler system, pilot primary flight display, audio panel, or the #1 air data computer. This failure could lead to a significant increase in pilot workload during adverse operating conditions.

Compliance

(f) To address this problem, you must do the following, unless already done:

Actions | Compliance | Procedures
(1) Inspect the essential bus lightning strike protection for proper installation of MOV and spark gap wiring. | Within the next 200 hours time-in-service after June 21, 2010 (the effective date of this AD) or within the next 12 months after June 21, 2010 (the effective date of this AD), whichever occurs first. | Follow Hawker Mandatory Service Bulletin SB 24-3995, issued September 2009.
(2) Where improper wiring installation is found, rework the essential bus lightning strike wiring installation for the MOV and spark gap. | Before further flight after the inspection in paragraph (f)(1) of this AD. | Follow Hawker Mandatory Service Bulletin SB 24-3995, issued September 2009.

Alternative Methods of Compliance (AMOCs)

(g) The Manager, Wichita Aircraft Certification Office (ACO), FAA, has the authority to approve AMOCs for this AD, if requested using the procedures found in 14 CFR 39.19. Send information to Attn: Kevin Schwemmer, Aerospace Engineer, FAA, Wichita Aircraft Certification Office (ACO), 1801 Airport Road, Room 100, Wichita, Kansas 67209; telephone: (316) 946-4174; fax: (316) 946-4107; e-mail: kevin.schwemmer@faa.gov. Before using any approved AMOC on any airplane to which the AMOC applies, notify your appropriate principal inspector (PI) in the FAA Flight Standards District Office (FSDO), or lacking a PI, your local FSDO.

Material Incorporated by Reference

(h) You must use Follow Hawker Mandatory Service Bulletin SB 24-3995, issued September 2009, to do the actions required by this AD, unless the AD specifies otherwise.

(1) The Director of the Federal Register approved the incorporation by reference of this service information under 5 U.S.C. 552(a) and 1 CFR part 51.

(2) For service information identified in this AD, contact Hawker Beechcraft Corporation, 9709 East Central, Wichita, Kansas 67201; telephone: (316) 676-5034; fax: (316) 676-6614; Internet: https://www.hawkerbeechcraft.com/service_support/pubs/.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on April 30, 2010.
Steven W. Thompson,
Acting Manager, Small Airplane Directorate, Aircraft Certification Service.

[FR Doc. 2010-10717 Filed 5-14-10; 8:45 am]

BILLING CODE 4910-13-P